DEPARTMENT OF TRANSPORTATION

Federal Motor Carrier Safety Administration

49 CFR Parts 365, 370, 379, 386, and 390

[Docket No. FMCSA-2025-0112]

RIN 2126-AC86

Removal of Obsolete References to “Water Carriers”

AGENCY: Federal Motor Carrier Safety Administration (FMCSA), Department of Transportation (DOT).

ACTION: Notice of proposed rulemaking (NPRM).

SUMMARY: FMCSA proposes to remove all obsolete references to “water carriers” in the FMCSA regulations (FMCSRs). FMCSA does not specifically regulate water carriers except to the extent that such carriers also engage in motor carrier operations. In such cases, the existing FMCSRs provide appropriate coverage of the carrier's motor carrier operations.

DATES: Comments must be received on or before July 29, 2025.

ADDRESSES: You may submit comments identified by Docket Number FMCSA-2025-0112 using any of the following methods:

• Federal eRulemaking Portal: Go to https://www.regulations.gov/docket/FMCSA-2025-0112/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Mr. Jeffrey L. Secrist, Chief, Registration Division, DOT, FMCSA, 1200 New Jersey Avenue SE, Washington, DC 20590; (202) 385-2367; jeff.secrist@dot.gov. If you have questions on viewing or submitting material to the docket, call Dockets Operations at (202) 366-9826.

SUPPLEMENTARY INFORMATION: FMCSA organizes this NPRM as follows:

I. Public Participation and Request for Comments

A. Submitting Comments

B. Viewing Comments and Documents

C. Privacy

D. Comments on the Information Collection

II. Abbreviations

III. Legal Basis

IV. Background

V. Discussion of Proposed Rulemaking

VI. International Impacts

VII. Section-by-Section Analysis

VIII. Regulatory Analyses

A. E.O. 12866 (Regulatory Planning and Review), E.O. 13563 (Improving Regulation and Regulatory Review), and DOT Regulatory Policies and Procedures

B. E.O. 14192 (Unleashing Prosperity Through Deregulation)

C. Advance Notice of Proposed Rulemaking

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

L. Rulemaking Summary

I. Public Participation and Request for Comments

A. Submitting Comments

If you submit a comment, please include the docket number for this NPRM (FMCSA-2025-0112), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0112/document, click on this NPRM, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the NPRM contain commercial or financial information that is customarily treated as private, that you actually treat as private, and that is relevant or responsive to the NPRM, it is important that you clearly designate the submitted comments as CBI. Please mark each page of your submission that constitutes CBI as “PROPIN” to indicate it contains proprietary information. FMCSA will treat such marked submissions as confidential under the Freedom of Information Act, and they will not be placed in the public docket of the NPRM. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this rulemaking.

B. Viewing Comments and Documents

To view any documents mentioned as being available in the docket, go to https://www.regulations.gov/docket/FMCSA-2025-0112/document and choose the document to review. To view comments, click this NPRM, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

II. Abbreviations

ANPRM Advance notice of proposed rulemaking

CFR Code of Federal Regulations

CMV Commercial motor vehicle

DOT Department of Transportation

E.O. Executive Order

FMCSRs Federal Motor Carrier Safety Regulations

FHWA Federal Highway Administration

FR Federal Register

ICC Interstate Commerce Commission

ICCTA Interstate Commerce Commission Termination Act

NPRM Notice of proposed rulemaking

OMB Office of Management and Budget

PIA Privacy Impact Assessment

PTA Privacy Threshold Assessment

STB Surface Transportation Board

UMRA Unfunded Mandates Reform Act of 1995

U.S.C. United States Code

III. Legal Basis

The ICC Termination Act (ICCTA) restructured the regulatory authority previously held by the Interstate Commerce Commission (ICC) and greatly restricted its scope over water carriers. It enacted a broad delegation of jurisdiction to the Secretary of Transportation (the Secretary) and the Surface Transportation Board (STB) over domestic water transportation (i.e., transportation for compensation by water between two States) (49 U.S.C. 13521). Regulation of transportation to and from foreign countries is delegated to the Federal Maritime Commission (see generally 46 U.S.C. subtitle IV, part A; see also KKK Ltd. v. Regal-Beloit Corp., 561 U.S. 89, 118-119 (2010) (dissenting opinion)).

Other provisions enacted as part of the ICCTA greatly limited the regulatory authority over water carriers, and specifically delegated it almost entirely to the STB, the Agency created to succeed the ICC. Rates and practices by water carriers engaged in the “noncontiguous domestic trade” are required to be reasonable (49 U.S.C. 13701). Noncontiguous domestic trade is defined as “involving traffic originating in or destined to Alaska, Hawaii, or a territory or possession of the United States,” (49 U.S.C. 13102(26)). The STB has authority to require tariffs to be filed for such transportation in the noncontiguous domestic trade (except for transportation of bulk cargo, forest products, recycled metal scrap, waste paper, and paper waste) and to consider complaints and to provide remedies for unreasonable rates and practices (49 U.S.C. 13702). Water carriers subject to the general jurisdiction have a common carrier obligation, but there is no specific delegation to either the Secretary or the STB for enforcing compliance. In addition, water carriers may enter into contracts for transportation and, in agreement with shippers, contractually waive any regulatory provisions except those governing registration, insurance, or safety fitness (49 U.S.C. 14101).

The Motor Carrier Safety Improvement Act of 1999 (Pub. L. 106-159, 113 Stat. 1748, Dec. 9, 1999) established FMCSA as a new operating administration within DOT (effective Jan. 1, 2000) to carry out the motor carrier safety and other regulatory responsibilities of the Federal Highway Administration (FHWA) on behalf of the Secretary. This Act made no changes in the water carrier regulatory provisions enacted by ICCTA, however, resulting in the carrying forward of certain obsolete references to water carriers into FMCSA's commercial regulations.

IV. Background

The term “water carrier” or “water carriers” appears in the FMCSRs in several sections: 49 CFR 365.107T, 370.1, Appendix A to part 372, 379.1, 386.2, Appendix B to part 386 (paragraph (g)(17)), 387.401, and Appendix A to part 390.¹ The term was carried over from FMCSA's predecessor Agencies, the ICC and FHWA.

¹ FMCSA added a new appendix A to part 390 to assist motor carriers and employers in better understanding which regulations apply to their specific operations. 87 FR 68367, 68370, 68372, 68376, Nov. 15, 2022. The guidance is also available in FMCSA's guidance portal at https://www.fmcsa.dot.gov/regulations/applicability-registration-financial-responsibility-and-safety-regulations-motor.

FMCSA's commercial regulations (e.g., operating authority rules) apply to certain for-hire motor carriers. Although there are for-hire water carriers, FMCSA's regulatory oversight is limited to motor carriers. Because FMCSA has no authority to regulate the activities of water carriers, the references applying FMCSA's commercial regulations to water carriers are obsolete and should be removed. However, FMCSA has determined that the use of the term in Appendix A to part 372, which relates to commercial zones, is more complex and requires additional study to determine whether it should be removed or retained, so FMCSA is not proposing to change it through this rulemaking. Although the term “water carrier” also appears in §§ 386.2 and 387.401, those references are not obsolete as they are being used to exclude water carriers from the definition of the term freight forwarder. Accordingly, this rulemaking proposes that §§ 365.107T, 370.1, 379.1, Appendix B to part 386, and Appendix A to part 390 be amended to remove all references to water carriers.

V. Discussion of Proposed Rulemaking

In this NPRM, FMCSA proposes to remove the words “water carrier” or “water carriers” from §§ 365.107T, 370.1, 379.1, Appendix B to part 386, and Appendix A to part 390. The terms are remnants carried over from FMCSA's predecessor Agencies and are obsolete, as FMCSA does not have regulatory jurisdiction over water carriers.

VI. International Impacts

Motor carriers and drivers are subject to the laws and regulations of the countries in which they operate, unless an international agreement states otherwise. Drivers and carriers should be aware of the regulatory differences between nations.

VII. Section-by-Section Analysis

This section-by-section analysis describes the proposed changes in numerical order.

Section 365.107T

This section would be amended by removing the term “water carriers” from paragraph (f), to reflect that water carriers do not submit applications for temporary operating authority to FMCSA. On January 17, 2017, FMCSA suspended certain regulations relating to the electronic Unified Registration System and delayed their effective date indefinitely (82 FR 5292). The suspended regulations were replaced by temporary provisions that contain the requirements in place on January 13, 2017. Section 365.107 was one of the sections suspended and § 365.107T, which is currently in effect, was one of the replacement sections added (82 FR 5299).

Section 370.1

This section would be amended by removing the term “water carrier” to reflect that the regulations in part 370 (Principles and Practices for the Investigation and Voluntary Disposition of Loss and Damage Claims and Processing Salvage) are not applicable to water carriers.

Section 379.1

This section would be amended by removing paragraph (a)(2) (which uses the term “water carriers”) and redesignating paragraph (a)(3) as paragraph (a)(2). This change is necessary to reflect that the regulations in part 379 (Preservation of Records) are not applicable to water carriers.

Appendix B to Part 386

This appendix would be amended by removing the words “water carrier” from paragraph (g)(17) to reflect that FMCSA does not have authority to assess civil penalties against water carriers.

Appendix A to Part 390

This appendix would be amended by removing the words “water carrier” from the paragraph under III. Specific Example Scenarios, called “Hotel Related Passenger Transportation.” This change would reflect that, although water carriers are included in the statutory definition of carrier at 49 U.S.C. 13102(3), FMCSA's authority over the entities listed in that statute is limited to motor carriers and freight forwarders.

VIII. Regulatory Analyses

A. Executive Order (E.O.) 12866 (Regulatory Planning and Review), E.O. 13563 (Improving Regulation and Regulatory Review), and DOT Regulatory Policies and Procedures

FMCSA has considered the impact of this NPRM under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this NPRM is not a significant regulatory action under section 3(f) of E.O. 12866, as supplemented by E.O. 13563, and does not require an assessment of potential costs and benefits under section 6(a)(3) of that order. Accordingly, OMB has not reviewed it under that E.O.

The proposed rule would remove language from predecessor Agencies that is not relevant and could be confusing. The term “water carriers” appears in multiple areas of the FMCSRs and could give the false appearance that these entities are subject to these regulations. Removing the term would not alter the applicability of the requirements but would streamline the language in the Code of Federal Regulations (CFR). FMCSA does not expect that any regulated entities would change their behavior as a result of this rulemaking, and therefore the proposed rule would not result in any impacts to regulated entities other than removing unnecessary language from the CFR. It could result in some cost savings by reducing the amount of time to become familiar with the regulations. FMCSA assumes any realized cost savings would be de minimis. FMCSA does not have data to estimate the reduction in costs that would result from this NPRM. FMCSA requests comment on any impacts that could result from removing the provisions identified in this NPRM.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ²

² Executive Office of the President. Executive Order 14192 of January 31, 2025. Unleashing Prosperity Through Deregulation. 90 FR 9065-9067. Feb. 6, 2025.

Implementation guidance for E.O. 14192 issued by OMB (Memorandum M-25-20, March 26, 2025) defines two different types of E.O. 14192 actions: an E.O. 14192 deregulatory action, and an E.O. 14192 regulatory action.³

³ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This proposed rulemaking is expected to have total costs less than zero because it would result in a more streamlined and easy-to-read CFR, and therefore would be considered an E.O. 14192 deregulatory action upon issuance of a final rule. The cost savings of this rulemaking could not be quantified.

C. Advance Notice of Proposed Rulemaking

Under 49 U.S.C. 31136(g), FMCSA is required to publish an advance notice of proposed rulemaking (ANPRM) or proceed with a negotiated rulemaking, if a proposed safety rule “under this part” ⁴ is likely to lead to the promulgation of a major rule.⁵ As this proposed rule is not likely to result in the promulgation of a major rule, the Agency is not required to issue an ANPRM or to proceed with a negotiated rulemaking.

⁴ Part B of Subtitle VI of Title 49, United States Code, i.e., 49 U.S.C. chapters 311-317.

⁵ A major rule means any rule that the Office of Management and Budget finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁶ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

⁶ Public Law 104-121, 110 Stat. 857, (Mar. 29, 1996).

No regulatory flexibility analysis is required, however, if the head of an Agency or an appropriate designee certifies that the rulemaking will not have a significant economic impact on a substantial number of small entities. This proposed rule would remove unnecessary and potentially confusing regulatory text that is no longer impacting regulated entities and would not impose costs or benefits. It could result in some cost savings by reducing the amount of time necessary to become familiar with the regulations. FMCSA considers any realized cost savings to be de minimis. Consequently, I certify that the proposed action would not have a significant economic impact on a substantial number of small entities.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the proposed rule would affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this rulemaking would not result in such an expenditure, a written statement is not required.

G. Paperwork Reduction Act

This proposed rule contains no new information collection requirements under the Paperwork Reduction Act of 1995 (44 U.S.C. 3501-3520).

H. E.O. 13132 (Federalism)

A rulemaking has implications for federalism under section 1(a) of E.O. 13132 if it has “substantial direct effects on the States, on the relationship between the national government and the States, or on the distribution of power and responsibilities among the various levels of government.”

FMCSA has determined that this proposed rule would not have substantial direct costs on or for States, nor would it limit the policymaking discretion of States. Nothing in this document preempts any State law or regulation. Therefore, this proposed rule does not have sufficient federalism implications to warrant the preparation of a Federalism Impact Statement.

I. Privacy

The Consolidated Appropriations Act, 2005,⁷ requires the Agency to assess the privacy impact of a regulation that will affect the privacy of individuals. This NPRM would not require the collection of personally identifiable information.

⁷ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁸ requires Federal agencies to conduct a PIA for new or substantially changed technology that collects, maintains, or disseminates information in an identifiable form. No new or substantially changed technology would collect, maintain, or disseminate information as a result of this proposed rule. Accordingly, FMCSA has not conducted a PIA.

⁸ Public Law 107-347, sec. 208, 116 Stat. 2899, 2921 (Dec. 17, 2002).

In addition, the Agency will complete a Privacy Threshold Assessment (PTA) to evaluate the risks and effects the proposed rulemaking might have on collecting, storing, and sharing personally identifiable information. The PTA will be submitted to FMCSA's Privacy Officer for review and preliminary adjudication and to DOT's Privacy Officer for review and final adjudication.

J. E.O. 13175 (Indian Tribal Governments)

This proposed rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this proposed rule pursuant to the National Environmental Policy Act of 1969 (42 U.S.C. 4321 et seq.). This action would likely fall under a published categorical exclusion and thus be excluded from further analysis and documentation in an environmental assessment or environmental impact statement under FMCSA Order 5610.1 (69 FR 9680), Appendix 2. Specifically, paragraphs (6)(e), (6)(q), (6)(u), and (6)(bb), which cover regulations pertaining to applications for operating authority and certificates of registration, records preservation, rules of practice for administrative proceedings, and vehicle operation safety standards, respectively. The Agency believes this proposed rule, if finalized, would not have a reasonably foreseeable significant effect on the quality of the human environment. The public is invited to comment on the impact of the proposed Agency action.

L. Rulemaking Summary

In accordance with 5 U.S.C. 553(b)(4), a summary of this proposed rule may be found at regulations.gov, under the docket number.

List of Subjects

48 CFR Part 365

Administrative practice and procedure, Brokers, Buses, Freight forwarders, Maritime carriers, Mexico, Motor carriers, Moving of household goods.

49 CFR Part 370

Freight forwarders, Investigations, Motor carriers.

49 CFR Part 379

Freight forwarders, Maritime carriers, Motor carriers, Moving of household goods, Reporting and recordkeeping requirements.

49 CFR Part 386

Administrative practice and procedure, Brokers, Freight forwarders, Hazardous materials transportation, Highway safety, Highway and roads, Motor carriers, Motor vehicle safety, Penalties.

49 CFR Part 390

Highway safety, Intermodal transportation, Motor carriers, Motor vehicle safety, Reporting and recordkeeping requirements.

Accordingly, FMCSA proposes to amend 49 CFR parts 365, 370, 379, 386, and 390 to read as follows:

PART 365—RULES GOVERNING APPLICATIONS FOR OPERATING AUTHORITY

1. The authority citation for part 365 continues to read as follows:

Authority: 5 U.S.C. 553 and 559; 49 U.S.C. 13101, 13301, 13901-13906, 13908, 14708, 31133, 31138, and 31144; 49 CFR 1.87.

2. Amend § 365.107T by revising paragraph (f) to read as follows:

§ 365.107T Types of applications.

* * * * *

(f) Temporary authority (TA) for motor carriers. These applications require a finding that there is or soon will be an immediate transportation need that cannot be met by existing carrier service.

* * * * *

PART 370—PRINCIPLES AND PRACTICES FOR THE INVESTIGATION AND VOLUNTARY DISPOSITION OF LOSS AND DAMAGE CLAIMS AND PROCESSING SALVAGE

3. The authority citation for part 370 continues to read as follows:

Authority: 49 U.S.C. 13301 and 14706; and 49 CFR 1.87.

§ 370.1 [Amended]

4. Amend § 370.1 by removing the words “,water carrier,”.

PART 379—PRESERVATION OF RECORDS

5. The authority citation for part 379 continues to read as follows:

Authority: 49 U.S.C. 13301, 14122 and 14123; and 49 CFR 1.87.

§ 379.1 [Amended]

6. Amend § 379.1 by:

a. Adding the word “and” to the end of paragraph (a)(1);

b. Removing paragraph (a)(2); and

c. Redesignating paragraph (a)(3) as paragraph (a)(2).

PART 386—RULES OF PRACTICE FOR FMCSA PROCEEDINGS

7. The authority citation for part 386 continues to read as follows:

Authority: 28 U.S.C. 2461 note; 49 U.S.C. 113, 1301 note, 31306a; 49 U.S.C. chapters 5, 51, 131-141, 145-149, 311, 313, and 315; and 49 CFR 1.81, 1.87.

8. Amend Appendix B to Part 386 by revising paragraph (g)(17) to read as follows:

Appendix B to Part 386

* * * * *

(g) * * *

(17) A motor carrier, freight forwarder, or broker, or their officer, receiver, trustee, lessee, employee, or other person authorized to receive information from them, who discloses information identified in 49 U.S.C. 14908 without the permission of the shipper or consignee is liable for a maximum penalty of $4,109.

* * * * *

PART 390—FEDERAL MOTOR CARRIER SAFETY REGULATIONS; GENERAL

9. The authority citation for part 390 continues to read as follows:

Authority: 49 U.S.C. 113, 504, 508, 31132, 31133, 31134, 31136, 31137, 31144, 31149, 31151, 31502; sec. 114, Pub. L. 103-311, 108 Stat. 1673, 1677; secs. 212 and 217, Pub. L. 106-159, 113 Stat. 1748, 1766, 1767; sec. 229, Pub. L. 106-159 (as added and transferred by sec. 4115 and amended by secs. 4130-4132, Pub. L. 109-59, 119 Stat. 1144, 1726, 1743, 1744), 113 Stat. 1748, 1773; sec. 4136, Pub. L. 109-59, 119 Stat. 1144, 1745; secs. 32101(d) and 32934, Pub. L. 112-141, 126 Stat. 405, 778, 830; sec. 2, Pub. L. 113-125, 128 Stat. 1388; secs. 5403, 5518, and 5524, Pub. L. 114-94, 129 Stat. 1312, 1548, 1558, 1560; sec. 2, Pub. L. 115-105, 131 Stat. 2263; and 49 CFR 1.81, 1.81a, 1.87.

10. Inappendix A to part 390, under section III. Specific Example Scenarios, revise “Hotel Related Passenger Transportation” to read as follows:

Appendix A to Part 390—Applicability of the Registration, Financial Responsibility, and Safety Regulations to Motor Carriers of Passengers

* * * * *

III. Specific Example Scenarios

* * * * *

Hotel Related Passenger Transportation

* * * * *

Guidance

This scenario describes for-hire transportation by a CMV as a part of continuous interstate movement, though some exemptions apply. Though the safety regulations apply to transportation in a CMV within a single State if the transportation is a continuation of interstate transportation, the hotel's van operation is eligible for the limited exception to safety regulation applicability in §§ 390.3T(f)(6) and 390.3(f)(6) based on the size of the vehicle and how compensation is received. The hotel's van is designed and used to transport 9 to 15 passengers (including the driver), and payment for transportation is not received directly. If the hotel complies with the applicable provisions listed in §§ 390.3T(f)(6) and 390.3(f)(6), then this passenger transportation is compliant with the safety regulations contained in 49 CFR parts 350 through 399. Because the vehicle is a CMV under § 390.5 and the limited exception does not exempt the hotel from USDOT registration requirements, the hotel must register by following the procedures in 49 CFR part 390 subpart E. The hotel's 15-passenger van is not a CMV under § 383.5, therefore drivers of these vehicles are not required to have CDLs and are not subject to the drug and alcohol testing regulations in 49 CFR part 382.

Operating authority registration under 49 CFR part 365, subpart A, however, is not required. The hotel is providing service subject to the exemption in 49 U.S.C. 13506(a)(8)(A) and § 372.117(a). The hotel's shuttle transportation of passengers is incidental to transportation by aircraft, limited to the transportation of passengers who have had an immediately prior or will have an immediately subsequent movement by air, and confined to a zone encompassed by a 25-mile radius of the boundary of the airport at which the passengers arrive or depart. The hotel does not meet the exemption requirements of 49 U.S.C. 13506(a)(3) for a motor vehicle owned or operated by or for a hotel and only transporting hotel patrons between the hotel and the “local station of a carrier.”

The definition of carrier within this exemption includes motor carrier and freight forwarder, but does not include air carrier. 49 U.S.C. 13102(3). However, the hotel only needs to meet the requirements of one exemption to not be subject to operating authority registration.

The hotel is providing indirectly compensated, for-hire transportation of passengers in interstate commerce in a vehicle with a seating capacity of 15 and is required under §§ 387.33T and 387.33 to maintain $1.5 million of financial responsibility.

* * * * *

Issued under authority delegated in 49 CFR 1.87.
Sue Lawless,
Assistant Administrator.

[FR Doc. 2025-09727 Filed 5-27-25; 4:15 pm]

BILLING CODE 4910-EX-P